DEPARTMENT OF HOMELAND SECURITY

United States Immigration and Customs Enforcement

Agency Information Collection Activities: Revision Notice; Student and Exchange Visitor Information System Forms I-20

ACTION: 30-Day notice of Information collection for review; Form No. I-20; Certificate of Eligibility for Nonimmigrant (F-1) Student Status—For Academic and Language Students, and the Form I-20, Certificate of Eligibility for Nonimmigrant (M-1) Student Status—For Vocational Students; OMB Control No. 1653-0038.

The Department of Homeland Security (DHS), U.S. Immigration and Customs Enforcement (ICE), is submitting the following information collection request for review and clearance in accordance with the Paperwork Reduction Act of 1995. The information collection is published in the Federal Register (FR) to obtain comments from the public and affected agencies.

Written comments and suggestions regarding items contained in this notice should be directed to the Department of Homeland Security, Scott Elmore, Forms Management Office, U.S. Immigration and Customs Enforcement, 801 I Street NW., Mailstop 5800, Washington, DC 20536-5800.

SUMMARY: This FR notice pertains to all schools certified to enroll F-1 and/or M-1 nonimmigrant students. DHS's Student and Exchange Visitor Program (SEVP) performs and manages these certifications, as well as oversees the F-1 and M-1 students. SEVP uses the Form I-20, Certificate of Eligibility for Nonimmigrant (F-1) Student Status—For Academic and Language Students, and the Form I-20, Certificate of Eligibility for Nonimmigrant (M-1) Student Status—For Vocational Students, which are issued solely through the Student and Exchange Visitor Information System (SEVIS), as an instrument to facilitate the oversight process and to document student eligibility for nonimmigrant benefits. The Forms I-20 are being modified to reflect current DHS branding, remove obsolete information, and modernize the forms' layout to improve readability. The old Forms I-20 sunset on July 1, 2016; after that date, they will no longer be accepted at ports-of-entry, nor suffice for any other nonimmigrant benefit application by either F-1 and M-1 students or their F-2 and M-2 accompanying dependents.

Authority: The authority for DHS/SEVP to manage the program comes from the following sources:

• Sections 101(a)(15)(F)(i) and (M)(i), of the Immigration and Nationality Act of 1952 (INA), as amended (Pub. L. 82-414, 66 Stat. 163, June 27, 1952), codified under Title 8 of the United States Code (U.S.C.) 1101(a)(15)(F) and (M), under which a foreign national may be admitted to the United States in nonimmigrant status as

○ A student to attend an SEVP-certified academic school or language training program (F-1),

○ A student to attend an SEVP-certified vocational or other recognized nonacademic institution (M-1), respectively, or

○ An accompanying F-2 or M-2 dependent spouse or minor child, respectively.

• Section 641 of the Illegal Immigration Reform and Immigrant Responsibility Act of 1996, Public Law 104-208, Div. C, 110 Stat. 3009-546, September 30, 1996, codified at 8 U.S.C. 1372, which authorized the following:

○ Creation of a program to collect current and ongoing information provided by schools regarding F or M nonimmigrants during the courses of their stay in the United States.

○ Use of electronic reporting technology where practicable.

○ DHS certification of schools to participate in F-1 or M-1 student enrollment.

• Section 416(b) of the Uniting and Strengthening America by Providing Appropriate Tools Required to Intercept and Obstruct Terrorism Act of 2001, Public Law 107-56, 115 Stat. 272, October 26, 2001 (USA PATRIOT Act), as amended, which provides for the collection of alien date of entry and port of entry information of aliens whose information is collected under 8 U.S.C. 1372.

• Homeland Security Presidential Directive No. 2 (HSPD-2), Combating Terrorism Through Immigration Policies, which requires DHS to “conduct periodic reviews of all institutions certified to receive nonimmigrant students.” “These reviews shall include checks for compliance with record keeping and reporting requirements” and authorize the termination of certification for institutions that fail to comply. 37 Weekly Comp. Pres. Docs. 1570, 1571-72 (Oct. 29, 2001).

• Section 502 of the Enhanced Border Security and Visa Entry Reform Act of 2002, Public Law 107-173, 116 Stat. 543, May 14, 2002, codified at 8 U.S.C. 1762, which directs DHS to review compliance with recordkeeping and reporting requirements under 8 U.S.C. 1372 and INA section 101(a)(15)(F) and (M), 8 U.S.C. 1101(a)(15)(F) and (M), of all schools approved to receive F or M nonimmigrants within two years of enactment, and every two years thereafter.

Accordingly, as directed by DHS, SEVP certifies, reviews, recertifies and collects data from schools enrolling F-1 and M-1 students. The specific data collection requirements for SEVP-certified schools associated with these laws are identified comprehensively in the Code of Federal Regulations (CFR) at 8 CFR 214.3.

Under the combined mandates of the USA PATRIOT Act and HSPD-2, the U.S. Immigration and Naturalization Service (INS) received funding and accelerated the development of SEVIS. Soon after, the INS published rules in the FR implementing supporting modifications to 8 CFR 214, Nonimmigrant Classes. 67 FR 60107 (September 25, 2002); and 67 FR 76256, (December 11, 2002).

The Homeland Security Act of 2002, Public Law 107-296, 116 Stat. 2135 (codified at 6 U.S.C. Chapter 1) created DHS, which came into effect on March 1, 2003. DHS encompasses and replaces the INS. Simultaneously, DHS established ICE, now the second largest criminal investigations agency in the U.S. government. ICE subsequently created SEVP to administer SEVIS.

How does this notice affect SEVP-certified schools?

SEVP-certified schools must replace old Forms I-20 with the new version, produced through SEVIS. All prospective and active F-1 and M-1 students and their accompanying F-2 and M-2 dependents must be issued and use the new Forms I-20 no later than June 30, 2016. SEVP will not approve additional time for schools to comply.

How does this notice affect F-1 and M-1 students and their F-2 and M-2 dependents?

All prospective and active F-1 and M-1 students and their accompanying F-2 and M-2 dependents must be issued and use new Forms I-20 no later than June 30, 2016. The old Forms I-20 will sunset on July 1, 2016. At that time, bearers of the old Forms I-20 will be denied admission at ports-of-entry; old Forms I-20 will not be accepted as supporting documentation with applications for other nonimmigrant benefits.

How is SEVIS used to support F and M nonimmigrant admission into, and oversight while in, the United States?

SEVIS is an internet-based reporting and tracking system that is accessible by U.S. government agencies involved in the admission and oversight of nonimmigrants in the United States, as well as by authorized officials at SEVP-certified schools and Department of State (DOS)-designated exchange visitor programs. Data and information on F and/or M nonimmigrants are maintained in SEVIS, collected during the admission process and throughout the length of their stay in the United States. Foreign students who wish to study in the United States must first apply to an SEVP-certified school. When a foreign student accepts an offer to study, a designated school official at the applicable school will access SEVIS to enter the relevant student and accompanying dependent information electronically prior to issuing a Form I-20 to each individual that will be applying for admission into the United States. Authorized consular officials use SEVIS data through an interface to the DOS Consolidated Consular Database to support the visa issuance process, and to report associated F and/or M visa issuances to DHS. U.S. Customs and Border Protection officials access SEVIS information at ports-of-entry to verify or clarify a prospective F or M nonimmigrant's entry eligibility.

Dated: November 18, 2015.
Scott Elmore,
Program Manager, Forms Management Office, Office of the Chief Information Officer, U.S. Immigration and Customs Enforcement, Department of Homeland Security.

[FR Doc. 2015-30127 Filed 11-25-15; 8:45 am]

BILLING CODE 9111-28-P